FEDERAL COMMUNICATIONS COMMISSION

47 CFR Part 73

[DA 05-2302; MB Docket No. 04-386; RM-10817]

Radio Broadcasting Services; Leesville and New Llano, LA

AGENCY: Federal Communications Commission.

ACTION: Final rule.

SUMMARY: This document grants a petition filed by Charles Crawford, proposing the allotment of Channel 252C3 at New Llano, Louisiana, as the community's first local service. See 69 FR 61616, published October 20, 2004. This document also substitutes Channel 224A for vacant Channel 252A at Leesville, Louisiana to accommodate Channel 252C3 at New Llano, Louisiana. Channel 252C3 can be allotted to New Llano in compliance with the Commission's rules provided there is a site restriction of 10 kilometers (6.2 miles) north of New Llano at reference coordinates 31-12-18 North Latitude and 93-16-11 West Longitude. The site restriction is necessary to prevent short-spacing to the license sites of FM Stations KTJM, Channel 253C, Port Arthur, Texas and Station KKST, Channel 254C1, Oakdale, Louisiana. Additionally, Channel 224A can be allotted to Leesville in compliance with the Commission's rules provided there is a site restriction of 12.6 kilometers (7.8 miles) east of Leesville at reference coordinates 31-07-40 North Latitude and 93-08-03 West Longitude. The site restriction is necessary to prevent short-spacing to the license site of FM Station KJVC, Channel 224A, Mansfield, Louisiana.

DATES: Effective October 3, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-386, adopted August 17, 2005, and released August 19, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

Channel 224A at Leesville is currently listed in the FM Table of Allotments, however, that channel was substituted for Channel 228C3 at Leesville in MM Docket No. 98-191, and the license of Station KJAE(FM) was modified accordingly. See Leesville, Louisiana, 64 FR 31140, published June 10, 1999.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Louisiana, is amended by removing Channel 252A at Leesville and by adding New Llano, Channel 252C3.

Federal Communications Commission.
John A. Karousos,
Assistant Chief, Audio Division, Media Bureau.

[FR Doc. 05-17520 Filed 9-6-05; 8:45 am]

BILLING CODE 6712-01-P